DEPARTMENT OF ENERGY

Federal Energy Regulatory Commission

[Project No. 13273-001]

Town of Canton; Notice of Preliminary Permit Application Accepted for Filing and Soliciting Comments, Motions To Intervene, and Competing Applications

On January 4, 2012, the Town of Canton, Connecticut filed an application for a successive preliminary permit, pursuant to section 4(f) of the Federal Power Act, proposing to study the feasibility of the Canton Hydroelectric Project (Canton Project or project) to be located on the Farmington River, in the Town of Canton, Hartford County, Connecticut. The sole purpose of a preliminary permit, if issued, is to grant the permit holder priority to file a license application during the permit term. A preliminary permit does not authorize the permit holder to perform any land-disturbing activities or otherwise enter upon lands or waters owned by others without the owners' express permission.

The project would consist of two developments. The Upper Collinsville development would consist of: (1) The 18-foot-high, 325-foot-long stone masonry Upper Collinsville dam with a crest elevation of 289.2 feet above mean sea level (msl); (2) new 3-foot-high flashboards; (3) an existing 55-acre impoundment; (4) an existing gated forebay; (5) an existing 140-foot-long, 50-foot-wide intake canal; (6) an existing brick and masonry powerhouse with two new turbine generating units with a total installed capacity of 1,080 kilowatts (kW); (7) a new 210-kW low flow turbine generating unit located on the east side of the dam; (8) an existing 70-foot-long tailrace; and (9) a new 4.16/23-kilovolt (kV), 200-foot-long transmission line. The Lower Collinsville development would consist of: (1) The 20-foot-high, 300-foot-long concrete gravity Lower Collinsville dam with a crest elevation of 269.7 feet above msl; (2) new 5-foot-high flashboards; (3) an existing 32-acre impoundment; (4) an existing gatehouse and intake structure; (5) an existing 650-foot-long, 50-foot-wide intake canal; (6) an existing brick and masonry powerhouse with two new turbine generating units with a total installed capacity of 876 kW; (7) a new 210-kW low flow turbine generating unit located adjacent to the gatehouse intake; (8) an existing 100-foot-long tailrace; and (9) a new 4.16/23-kV, 750-foot-long transmission line. The estimated annual generation of the Canton Project would be 8,000 megawatt-hours.

Applicant Contact: Paul V. Nolan, Esq., 5515 North 17th Street, Arlington, VA 22205-2722; (703) 534-5509.

FERC Contact: Dr. Nicholas Palso; phone: (202) 502-8854.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13273-001) in the docket number field to access the document. For assistance, contact FERC Online Support.

Dated: January 19, 2012.
Kimberly D. Bose,
Secretary.

[FR Doc. 2012-1471 Filed 1-24-12; 8:45 am]

BILLING CODE 6717-01-P